SECURITIES AND EXCHANGE COMMISSION

[Release No. 35-27340]

Filings Under the Public Utility Holding Company Act of 1935, as Amended (“Act”)

January 26, 2001.

Notice is hereby given that the following filing(s) has/have been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by February 20, 2001, to the Secretary, Securities and Exchange Commission, Washington, DC 20549-0609, and serve a copy on the relevant applicant(s) and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After February 20, 2001, the application(s) and/or declaration(s), as filed or as amended, may be granted and/or permitted to become effective.

National Grid USA, et al. (70-9089)

National Grid USA (“Grid”), a registered public utility holding company, and its electric public utility subsidiary companies, Massachusetts Electric Company (“Mass Electric”), The Narragansett Electric Company (“Narragansett”), New England Electric Transmission Corporation, New England Hydro-Transmission Electric Company, Inc., New England Hydro-Transmission Corporation, New England Power Company, New England Energy Incorporated, and National Grid USA Service Company, Inc. (“Service Company”), all located at 25 Research Drive, Westborough, Massachusetts 01582, and Granite State Electric Company, 407 Miracle Mile, Suite 1, Lebanon, New Hampshire 03766, Nantucket Electric Company (“Nantucket”), 25 Fairgrounds Road, Nantucket, Massachusetts 02554, and The Narragansett Electric Company, 280 Melrose Street, Providence, Rhode Island 02901 (collectively, “Applicants”) have filed a post-effective amendment to their application-declaration under sections 6(a), 7, 9(a), 10, and 12 of the Act and rules 43, 45 and 54 under the Act.

By order dated October 29, 1997 (HCAR No. 26768) and supplemented June 2, 1998 (HCAR No. 26881), the Commission authorized, through October 31, 2001, among other things: (1) the issuance of short-term bank notes by Mass Electric, Nantucket, Narragansett, and Service Company; (2) the issuance and sale of commercial paper by Mass Electric and Narragansett; and (3) the establishment of an intrasystem money pool (“Money Pool”) for the New England Electric System (now Grid) ¹ and participation in the Money Pool by Mass Electric, Nantucket, Narragansett, and Service Company.

¹ National Grid Group plc acquired the New England Electric System and formed National Grid USA by Commission order dated March 15, 2000 (HCAR No. 27154).

In other orders dated April 15, 1997 (HCAR No. 26704) and supplemented March 20, 1998 (HCAR No. 26875) in SEC File No. 70-8966, Eastern Utilities Associates (“EUA”) and certain of its subsidiaries were authorized to enter into certain borrowing arrangements through July 31, 2002.²

² By Commission order dated April 14, 2000 (HCAR No. 27166), Grid was authorized to acquire all of the outstanding common shares of EUA, with Grid as the surviving entity. Several of EUA's subsidiaries merged into Grid's subsidiaries.

Applicants now request that the Commission orders be amended to authorize commercial paper, bank borrowings, and Money Pool borrowings in the following increased amounts, through May 31, 2003.³

³ By Commission order dated March 15, 2000 (HCAR No. 27154), Applicants' financing authority was extended to May 31, 2003. Companies listed in parentheses are former EUA entities which have merged into the Grid company whose name appears above it.

Borrowing company | Borrowing authority: Old | Borrowing authority: Requested
Mass Electric | $150,000,000 | $275,000,000
(Eastern Edison) | 75,000,000 |
Nantucket | 5,000,000 | 6,000,000
Narragansett | 100,000,000 | 145,000,000
(Blacksone) | 20,000,000 |
(Newport) | 25,000,000 |
Service Company | 12,000,000 | 60,000,000
(EUA Service) | 15,000,000 |

Applicants request proposed increases because the consolidation of the NEES and EUA subsidiaries into Grid subsidiaries as a result of the mergers have resulted in greater borrowing needs, and cash requirements for general corporate purposes. The commercial paper will be in the form of the unsecured promissory notes in denominations of not less than $50,000 and will mature within 270 days. The proposed borrowings from banks would not exceed 10.5% per year based on the current base lending rate of 9.5% and the federal funds rates. The terms of the Money Pool will remain unchanged.

For the Commission, by the Division of Investment Management, pursuant to delegated authority.
Margaret H. McFarland,
Deputy Secretary.

[FR Doc. 01-2813 Filed 2-1-01; 8:45 am]

BILLING CODE 8010-01-M